ENVIRONMENTAL PROTECTION AGENCY

[FRL-8716-4]

National Drinking Water Advisory Council: Request for Nominations

AGENCY: Environmental Protection Agency.

ACTION: Notice.

SUMMARY: The U.S. Environmental Protection Agency (EPA or Agency) invites all interested persons to nominate qualified individuals to serve a three-year term as members of the National Drinking Water Advisory Council (Council). This 15-member Council was established by the Safe Drinking Water Act (SDWA) to provide practical and independent advice, consultation, and recommendations to the Agency on the activities, functions, policies, and regulations required by the SDWA. The terms of five (5) members expire in December 2008. To maintain the representation required in the statute, nominees for the 2009 Council should represent State and local officials concerned with public water supply and public health protection (1 vacancy), the general public (2 vacancies) and interest groups (2 vacancies), with at least one of these vacancies representing small systems. All nominations will be fully considered, but applicants need to be aware of the specific representation needed as well as geographical balance so that all major areas of the U.S. (East, Mid-West, South, Mountain, South-West, and West) will be represented. The current list of members is available on the EPA Web site at http://www.epa.gov/safewater/ndwac.

DATES: Submit nominations via U.S. mail on or before October 19, 2008.

ADDRESSES: Address all nominations to Veronica Blette, Designated Federal Officer, National Drinking Water Advisory Council, U.S. Environmental Protection Agency, Office of Ground Water and Drinking Water (Mail Code 4601-M), 1200 Pennsylvania Avenue, NW., Washington, DC 20460.

FOR FURTHER INFORMATION CONTACT: E-mail your questions to Jacquelyn Springer, Designated Federal Officer, springer.jacquelyn@epa.gov or call 202-564-9904.

SUPPLEMENTARY INFORMATION: National Drinking Water Advisory Council: The Council consists of 15 members, including a Chairperson, appointed by the Deputy Administrator. Five members represent the general public; five members represent appropriate State and local agencies concerned with public water supply and public health protection; and five members represent private organizations or groups demonstrating an active interest in the field of public water supply and public health protection. The SDWA requires that at least two members of the Council represent small, rural public water systems. Additionally, members may be asked to serve on one of the Council's workgroups that are established on an as-needed basis to assist EPA in addressing specific program issues. On December 15 of each year, some members complete their appointment. Therefore, this notice solicits nominations to fill five vacancies with terms ending on December 15, 2011.

Persons selected for membership will receive compensation for travel and a nominal daily compensation (if appropriate) while attending meetings. The Council holds two face-to-face meetings each year, generally in the spring and fall. Conference calls will be scheduled if needed.

Nomination of a Member: Any interested person or organization may nominate qualified individuals for membership. Self-nominations are also welcome. Nominees should be identified by name, occupation, position, address and telephone number. To be considered, all nominations must include a current resume, providing the nominee's background, experience and qualifications.

Dated: September 9, 2008.
Cynthia C. Dougherty,
Director, Office of Ground Water and Drinking Water.

[FR Doc. E8-21459 Filed 9-12-08; 8:45 am]

BILLING CODE 6560-50-P